DEPARTMENT OF HEALTH AND HUMAN SERVICES

National Institutes of Health

Proposed Collection; Comment Request; Agricultural Health Study—A Prospective Cohort Study of Cancer and Other Diseases Among Men and Women in Agriculture—Rheumatoid Arthritis Validation Sub-study

SUMMARY: In compliance with the requirement of section 3506(c)(2)(A) of the Paperwork Reduction Act of 1995, for opportunity for public comment on proposed data collection projects, the National Cancer Institute (NCI), the National Institutes of Health (NIH) will publish periodic summaries of proposed projects to be submitted to the Office of Management and Budget (OMB) for review and approval.

Proposed Collection

Title: Agricultural Health Study—A Prospective Cohort Study of Cancer and Other diseases Among Men and Women in Agriculture—Rheumatoid Arthritis Validation Study. Type of Information Collection Request: Revision. (OMB 0925-0406, expires 11/30/01). Need and Use of Information Collection: The Agricultural Health Study is an ongoing prospective cohort study of 89,189 farmers, their spouses, and commercial applicators of pesticides from Iowa and North Carolina. The proposed revision is intended to assess the validity of self-reported Rheumatoid Arthritis (RA) in the Agricultural Health Study (AHS) within small subgroups of individuals. The collection is intended to identify confirmed cases of RA to include in etiologic analyses of farming exposures and RA; evaluate the efficacy of certain questions or sets of questions for screening out false-positives for self-reported RA and identify subgroups to target for future etiologic studies of RA, based on a relatively high prevalence of RA and the feasibility of disease confirmation. Frequency of Response: One time. Affected Public: Individuals or households, Farms. Type of Respondents: Private pesticide applicators and their spouses. The annual reporting burden is as follows: Estimated Number of Respondents: 439; Estimated Number of Responses per Respondent: 1.0; Average Burden Hours Per Response: .42; and Estimated Total Annual Burden Hours Requested: 184. The annualized cost to respondents is estimated at: $1,840. There are no Capitol Costs to report. There are no Operating or Maintenance Costs to report.

Request for Comments

Written comments and/or suggestion from the public and affected agencies are invited on one or more of the following points: (1) Evaluate whether the proposed collection of information is necessary for the proper performance of the function of the agency, including whether the information will have practical utility; (2) Evaluate the accuracy of the agency's estimate of the burden of the proposed collection of information, including the validity of the methodology and assumptions used; (3) Enhance the quality, utility, and clarity of the information to be collected; and (4) Minimize the burden of the collection of information on those who are to respond, including the use of appropriate automated, electronic, mechanical, or other technological collection techniques or other forms of information technology.

FOR FURTHER INFORMATION CONTACT: To request more information on the proposed project or to obtain a copy of the data collection plans and instruments, contact Michael C.R. Alavanja, Dr. P.H., Epidemiology and Biostatistics Program, Division of Cancer Etiology, National Cancer Institute, EPN 8000, 6120 Executive Boulevard, Rockville, MD 20852, or call (310) 435-4720, or E-mail your request, including your address to: alavanjam@mail.nih.gov

Comments Due Date: Comments regarding this information collection are best assured of having their full effect if received on or before December 24, 2001.

Dated: October 15, 2001.
Reesa L. Nichols,
NCI Project Clearance Liaison.

[FR Doc. 01-26620 Filed 10-22-01; 8:45 am]

BILLING CODE 4140-01-M